DEPARTMENT OF AGRICULTURE

Commodity Credit Corporation

Farm Service Agency

Information Collection; Commodity Request (Food Aid Request Entry System (FARES))

AGENCY: Commodity Credit Corporation and Farm Service Agency, USDA.

ACTION: Notice; request for comments.

SUMMARY: In accordance with the Paperwork Reduction Act of 1995, the Commodity Credit Corporation (CCC) and Farm Service Agency (FSA) are seeking comments from all interested individuals and organizations on an extension of a currently approved information collection for the Food Aid Request Entry System (FARES). FSA and CCC procure various processed foods and commodities to be exported and donated for use in humanitarian food aid programs. Information related to this activity is collected and processed electronically through the FARES. The Web-Based Supply Chain Management system (WBSCM) is a new procurement system in development to replace FARES at a later date.

DATES: We will consider comments that we receive by August 30, 2010.

ADDRESSES: We invite you to submit comments on this notice. In your comments, include date, volume, and page number of this issue of the Federal Register. You may submit comments by any of the following methods:

• Mail: Khristy Baughman, Chief, Business Operations Support Division, Kansas City Commodity Office, 6501 Beacon Drive, Kansas City, Missouri 64133-4676.

• E-mail: khristy.baughman@usda.gov.

• Fax: (816) 926-1648.

You may also send comments to the Desk Officer for Agriculture, Office of Information and Regulatory Affairs, Office of Management and Budget, Washington, DC 20503.

FOR FURTHER INFORMATION CONTACT: Sharon Hadder, Marketing Specialist, (202) 720-3816, or Sharon.Hadder@usda.gov.

SUPPLEMENTARY INFORMATION:

Description of the Information Collection

Title: Food Aid Request Entry System (FARES).

OMB Control Number: 0560-0225.

Type of Request: Extension with no revision.

Abstract: The information collection is necessary for CCC and FSA to procure various processed foods and commodities for export under humanitarian food aid programs. FARES automates the entry of commodity requests submitted to CCC from the United States Agency for International Development (USAID), private voluntary organizations (PVOs), the World Food Program (WFP), the Foreign Agricultural Service (FAS), and FSA.

Estimate of Average Time To Respond: Public reporting burden for collecting information under this notice is estimated to average 0.47 hour per response, including the time for reviewing instructions, searching existing data sources, gathering and maintaining the data needed, and completing and reviewing the information.

Type of Respondents: USAID, PVOs, the WFP, FAS, and FSA.

Estimated Number of Respondents: 305.

Estimated Number of Responses per Respondent: 12.

Estimated Number of Reponses: 3660.

Estimated Total Annual Burden on Respondents: 1708 hours.

We are requesting comments on all aspects of this information collection and to help us to:

(1) Evaluate whether the collection of information is necessary for the proper performance of the functions of the agency, including whether the information will have practical utility;

(2) Evaluate the accuracy of the agency's estimate of the burden, including the validity of the methodology and assumptions used;

(3) Enhance the quality, utility, and clarity of the information to be collected; and

(4) Minimize the burden of the collection of information on those who are to respond, including through the use of automated, electronic, mechanical, or other technological collection techniques or other forms of information technology.

All comments received in response to this notice, including names and addresses when provided, will be a matter of public record. Comments will be summarized and included in the submission for Office of Management and Budget approval.

Signed at Washington, DC, on June 24, 2010.
Jonathan W. Coppess,
Executive Vice President, Commodity Credit Corporation.

[FR Doc. 2010-15945 Filed 6-30-10; 8:45 am]

BILLING CODE P